DEPARTMENT OF THE INTERIOR

Fish and Wildlife Service

[FWS-R4-ES-2010-N014; 40120-1112-0000-F2]

Endangered and Threatened Wildlife and Plants; Permit, St. Lucie County, FL

AGENCY: Fish and Wildlife Service, Interior.

ACTION: Notice of receipt of application for incidental take permit; availability of proposed low-effect habitat conservation plan and associated documents; request for comment/information.

SUMMARY: We, the Fish and Wildlife Service (Service), announce the availability of incidental take permit (ITP) and Habitat Conservation Plan (HCP). V.P. Properties (under the name of International Airport Business Park) (applicant) requests an ITP under section 10(a)(1)(B) of the Endangered Species Act of 1973, as amended (Act). The applicant anticipates taking about 1.0 acre of Florida scrub-jay (Aphelocoma coerulescens) (scrub-jay) breeding, feeding, and sheltering habitat incidental to lot preparation for the construction of a gas station, convenience store, several light industrial warehouse condominiums, and supporting infrastructure in St. Lucie County, Florida (Project). The destruction of 1.0 acre of foraging and sheltering habitat is expected to result in the take of one family of scrub-jays. The applicant's Habitat Conservation Plan (HCP) describes the mitigation and minimization measures proposed to address the effects of the Project to the scrub-jay.

DATES: Written comments on the ITP application and HCP should be sent to the South Florida Ecological Services Office (see ADDRESSES) and should be received on or before March 1, 2010.

ADDRESSES: You may request documents by U.S. mail, e-mail, or phone (see below). These documents are also available for public inspection by appointment during normal business hours at the office below. Send your comments or requests by any one of the following methods.

E-mail: Trish_Adams@fws.gov. Use “Attn: Permit number TE214678-0” as your message subject line.

Fax: Trish Adams, (772) 562-4288, Attn: Permit number TE214678-0.

U.S. mail: Trish Adams, HCP Coordinator, South Florida Ecological Services Field Office, Attn: Permit number TE214678-0, U.S. Fish and Wildlife Service, 1339 20th Street, Vero Beach, FL 32960-3559.

In-person drop-off: You may drop off information during regular business hours at the above office address.

FOR FURTHER INFORMATION CONTACT: Ms. Trish Adams, HCP Coordinator, South Florida Ecological Services Office, Vero Beach, Florida (see ADDRESSES), telephone: 772-562-3909, extension 232.

SUPPLEMENTARY INFORMATION: If you wish to submit comments or information, you may do so by any one of several methods. Please reference permit number TE214678-0, in such comments. You may mail comments to the Service's South Florida Ecological Services Office (see ADDRESSES). You may also comment via the Internet to trish_adams@fws.gov. Please also include your name and return address in your Internet message. If you do not receive a confirmation from us that we have received your Internet message, contact us directly at the telephone number listed under FOR FURTHER INFORMATION CONTACT. Finally, you may hand deliver comments to the Service office listed under ADDRESSES.

Before including your address, phone number, e-mail address, or other personal identifying information in your comments, you should be aware that your entire comment—including your personal identifying information—may be made publicly available at any time. While you can ask us in your comment to withhold your personal identifying information from public review, we cannot guarantee that we will be able to do so.

Applicant's Proposed Project: We received an application from the applicant for an incidental take permit, along with a proposed habitat conservation plan. The applicant requests a 5-year permit under section 10(a)(1)(B) of the Act. If we approve the permit, the applicant anticipates taking approximately 1 acre (0.4 hectares (ha)) of Florida scrub-jay breeding, feeding and sheltering habitat incidental to land preparation for construction of a gas station, convenience store, several light industrial warehouse condominiums, and supporting infrastructure in St. Lucie County, Florida. In 1987, we listed this species as threatened (June 3, 1987; 52 FR 20715). The listing became effective July 6, 1987.

Project construction would take place at latitude 27.4833, longitude −80.3577, St. Lucie County, Florida, at St. Lucie Boulevard, Lots 1 through 18 and north half of Hawthorn Road adjacent on south side of Lot 18, Block 37, and Lot 1 and south half of Hawthorn Road adjacent on north side of Lot 1, Block 15A, San Lucie Plaza Unit One, Florida. Parts of these lots are within scrub-jay-occupied habitat.

The parcels encompass about 2.92 acres (1.18 ha), and the footprint of the commercial buildings, paved areas, infrastructure, and landscaping precludes retention of viable scrub-jay habitat on this lot. In order to minimize take on site, the applicant proposes to mitigate for the loss of 1.0 acres (0.4 ha) of occupied scrub-jay habitat by contributing $82,904.00 to a Service-approved scrub-jay conservation fund, or purchase the equivalent amount of credit in an appropriate Service-approved scrub-jay conservation bank within 180 days of permit issuance or before the commencement of clearing and construction activities, whichever is sooner.

Our Preliminary Determination: The Service has made a preliminary determination that the applicant's Project, including the proposed mitigation and minimization measures, will individually and cumulatively have a minor or negligible effect on the species covered in the HCP. Therefore, the ITP is a “low-effect” project and qualifies as a categorical exclusion under the National Environmental Policy Act (NEPA) (40 CFR 1506.6), as provided by the Department of the Interior Manual (516 DM 2 Appendix 1 and 516 DM 6 Appendix 1), and as defined in our Habitat Conservation Planning Handbook (November 1996). We base our determination that the plan qualifies as a low-effect plan on the following three criteria: (1) Implementation of the plan would result in minor or negligible effects on federally listed, proposed, and candidate species and their habitats; (2) Implementation of the plan would result in minor or negligible effects on other environmental values or resources; and (3) Impacts of the plan, considered together with the impacts of other past, present, and reasonably foreseeable similarly situated projects, would not result, over time, in cumulative effects to environmental values or resources that would be considered significant. As more fully explained in our environmental action statement and associated Low Effect Screening Form, the applicant's proposed plan qualifies as a “low-effect” plan. This preliminary determination may be revised based on our review of public comments that we receive in response to this notice.

Next Steps: The Service will evaluate the HCP and comments submitted thereon to determine whether the applications meet the requirements of section 10(a) of the Act (16 U.S.C. 1531 et. seq.). If it is determined that those requirements are met, the ITP will be issued for the incidental take of the Florida scrub-jay. The Service will also evaluate whether issuance of the section 10(a)(1)(B) ITP comply with section 7 of the Act by conducting an intra-Service section 7 consultation. The results of this consultation, in combination with the above findings, will be used in the final analysis to determine whether or not to issue the ITP.

Authority: This notice is provided pursuant to Section 10 of the Endangered Species Act and NEPA regulations (40 CFR 1506.6).

Dated: January 15, 2010.
Paul Souza,
Field Supervisor, South Florida Ecological Services Office.

[FR Doc. 2010-1808 Filed 1-28-10; 8:45 am]

BILLING CODE 4310-55-P